NUCLEAR REGULATORY COMMISSION

10 CFR Part 72

RIN 3150-AF94

Changes, Tests, and Experiments; Correction

AGENCY: Nuclear Regulatory Commission.

ACTION: Final rule; correction.

SUMMARY: This document is necessary to correct three erroneous Federal Register citations appearing in a document published on February 26, 2001 (66 FR 11527).

FOR FURTHER INFORMATION CONTACT: Jayne McCausland, Office of Nuclear Material Safety and Safeguards, Nuclear Regulatory Commission, telephone 301-415-6219, e-mail: jmm@nrc.gov.

SUPPLEMENTARY INFORMATION: On page 11527, in the first column, in the SUMMARY paragraph, in the third line, “65” is corrected to read “64.”

On page 11527, in the first column, in the Background paragraph, in both the first and last lines of the paragraph, “64” is corrected to read “63”.

Dated at Rockville, Maryland, this 14th day of June 2001.
For the Nuclear Regulatory Commission.
Alzonia W. Shepard,
Acting Chief, Rules and Directives Branch, Division of Administrative Services, Office of Administration.

[FR Doc. 01-15472 Filed 6-19-01; 8:45 am]

BILLING CODE 7590-01-P